DEPARTMENT OF TRANSPORTATION

National Highway Traffic Safety Administration

Reports, Forms, and Record Keeping Requirements Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on March 31, 2010 (75 FR 16227-16228).

DATES: Comments must be submitted on or before August 5, 2010.

ADDRESSES: Send comments, within 30 days, to the Office of Information and Regulatory Affairs, Office of Management and Budget, 725-17th Street, NW., Washington, DC 20503, Attention NHTSA Desk Officer.

FOR FURTHER INFORMATION CONTACT: Randolph Atkins, Ph.D., Office of Behavioral Safety Research, National Highway Traffic Safety Administration, NTI-131, Room W46-500, 1200 New Jersey Ave, SE., Washington, DC 20590. Dr. Atkins' phone number is 202-366-5597 and his e-mail address is randolph.atkins@dot.gov.

SUPPLEMENTARY INFORMATION:

Title: Motivations for Speeding.

Type of Request: New information collection requirement.

Abstract: Speeding is one of the primary factors leading to vehicle crashes. In 2008, 31% of all fatal crashes were speeding-related. The estimated economic cost to society for speeding-related crashes is $40.4 billion per year. Driving at higher speeds reduces the ability of drivers to avoid obstacles or react to sudden changes in the roadway environment and increases crash severity. The pervasiveness of speeding behavior is reflected in a recent national survey that showed that approximately 75% of all drivers reported speeding in the past month. Since most drivers often do not see speeding as risky or dangerous behavior, it is imperative that NHTSA gain a better understanding of the motivations for speeding behaviors in order to develop and refine effective interventions and countermeasures.

NHTSA proposes to conduct follow-up focus groups with 72 participants from an earlier on-road instrumented vehicle data collection conducted in Seattle, WA and College Station, TX. Focus group recruitment will be based on participants' speeding patterns in the on-road data. The focus groups will contribute to a better understanding of speeding and speeders, a more accurate taxonomy of high/low speed driver subgroups, and a better understanding of the motives, attitudes and habits of these subgroups. The focus groups will explore speed choices and speeding behaviors and the factors that influence them, beliefs and attitudes toward speeding, reactions to and discussions about specific driving scenarios, and individual/group responses to various speeding countermeasures. The focus groups are expected to provide data relevant to descriptions of key motivations, attitudes, normative commitment to law, driving habits relevant to speeding and speeding countermeasures; descriptions of countermeasures with the greatest likely benefits; implementation issues and concerns associated with the countermeasures; and key advantages and disadvantages associated with various countermeasures.

Affected Public: NHTSA plans to conduct six focus group sessions, three in Seattle, WA and three in College Station, TX. Each focus group will consist of 8-12 participants and last approximately 80 minutes. Participants will be recruited by e-mail or telephone based on their driving behaviors in the earlier on-road phase of the study and their demographic characteristics. Participation by all respondents would be voluntary and confidential.

Estimated Total Annual Burden: The total estimated annual burden is between 64 and 96 hours, depending on the number of participants (range 8-12) in each group. The respondents would not incur any reporting cost from the information collection. The respondents also would not incur any record keeping burden or record keeping cost from the information collection.

Comments are invited on the following:

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. 3506(c)(2)(A).

Jeff Michael,
Associate Administrator, Research and Program Development.

[FR Doc. 2010-16227 Filed 7-2-10; 8:45 am]

BILLING CODE 4910-59-P